FEDERAL COMMUNICATIONS COMMISSION

Public Information Collections Approved by Office of Management and Budget

July 25, 2000.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0854.

Expiration Date: 01/31/2001.

Title: Truth-in-Billing Format—CC Docket No. 98-170.

Form No.: N/A.

Respondents: Business or other for-profit.

Estimated Annual Burden: 3099 respondents; 505.3 hours per response (avg.).; 1,565,775 total annual burden hours.

Estimated Annual Reporting and Recordkeeping Cost Burden: $9,000,000.

Frequency of Response: On occasion; Third Party Disclosure.

Description: Under Section 201(b) of the Communications Act, the charges, practices, and classifications of common carriers must be just and reasonable. The Commission believes that the telephone bill is an integral part of the relationship between a carrier and its customer. The manner in which charges are identified and articulated on the bill is essential to the consumer's understanding of the services that have been rendered, such that a carrier's provision of misleading or deceptive billing information may be an unjust and unreasonable practice in violation of Section 201(b). In the Truth-in-Billing and Billing Format Order on Reconsideration, the Commission addressed several petitions for reconsideration or clarification of the principles and guidelines contained in Truth-in-Billing and Billing Format, First Report and Order and Further Notice of Proposed Rulemaking (TIB Order), 64 FR 34487 (June 25, 1999). In the Order on Reconsideration, the Commission modified, as noted below, its collections of information to ensure that telephone bills contain information necessary for consumers to determine the validity of charges assessed on the bills and to combat telecommunications fraud. a. Clear identification of service providers. Telephone bills must clearly identify the name of the service provider associated with each charge. In the Order on Reconsideration, the Commission clarified that, where an entity bundles a number of services as a single package offered by a single company, such offering may be listed on the telephone bill as a single offering, rather than listed as separate charges by provider. Carriers providing bundled services in this manner must, however, make sure that an inquiry contact number or numbers appears on the bill for customer questions or complaints concerning the services provided through the bundle, as required by section 6.2401(d). The Commission also clarified that the carrier name of the telephone bill should be the name by which such company is known to its consumers for the provision of the respective service. (No. of respondents: 3099; hours per response: 10 hours; total annual burden: 30,990 hours). b. Separation of charges by service provider and highlighting new services provider information. In the TIB Order, the Commission required that all telephone bills containing wireline common carrier service (1) separate charges by service provider and (2) clearly and conspicuously show any change in service providers by identifying all service providers that did not bill for services on the previous billing statement and, where applicable, describing any new presubscribed or continuing relationship with the customer. In the Order on Reconsideration, the Commission modified its rule requiring highlighting of new service providers to only apply to providers that have a continuing arrangement with the subscriber that results in periodic charges on the subscriber's telephone bill. This change will ensure that services billed solely on a per-transaction basis, such as operator service and directory assistance, are not subject to the highlighting requirement. The Commission modified the language in the rule concerning when the highlighting requirement is triggered. (No. of respondents: 2295; hours per response: 465 hours; total annual burden: 1,067,175 hours). c. Full and non-misleading bill charges. The TIB Order requires that (1) bills for wireline service include for each charge a brief, clear, plain-language description of the services rendered; and (2) when a bill for local wireline service contains additional carrier charges, the bill must differentiate between those charges for which non-payment could result in termination of local telephone service and those for which it could not. In the Order on Reconsideration, the Commission retained its requirement that carriers distinguish on telephone bills those charges that consumers may refuse to pay without jeopardizing the provision of basic, local service, and charges for which non-payment may result in such disconnection. The Commission, however, clarified that a carrier need not label every charge as either deniable or non-deniable. (No. of respondents: 2295; hours per response: 197 hours; total annual burden: 452,115 hours). d. Clear and Conspicuous Disclosure of Inquiry Contacts. The TIB Order requires that all telephone bills display a toll-free number or numbers by which consumers may inquire about or dispute any charge on the bill. The number(s) must be displayed in a manner that permits a customer to identify easily the appropriate number to use to inquire about a particular charge. In the Order on Reconsideration, the Commission modified the requirement by creating a limited exception where the customer does not receive a paper copy of his or her telephone bill, but instead accesses that bill only by e-mail or internet. (No. of respondents: 3099; hours per response: 5 hours; total annual burden: 15,495). The information will be used by consumers to help them understand their telephone bills. Consumers need this information to protect themselves against fraud and to help them resolve billing disputes if they wish. Obligation to respond: Required to obtain or retain benefits.

Public reporting burden for the collection of information is as noted above. Send comments regarding the burden estimate or any other aspect of the collections of information, including suggestions for reducing the burden to Performance Evaluation and Records Management, Washington, DC 20554.

Federal Communications Commission.
Magalie Roman Salas,
Secretary.

[FR Doc. 00-19298 Filed 8-3-00; 8:45 am]

BILLING CODE 6712-01-P